DEPARTMENT OF STATE

[Public Notice 6371]

Cancellation of a Meeting of the International Telecommunication Advisory Committee

Summary: This notice cancels an announced meeting of the International Telecommunication Advisory Committee (ITAC).

The ITAC Meeting scheduled for October 8 from 10 a.m. to 12 p.m. is hereby cancelled. It is rescheduled for November 6 from 2 to 4 p.m. at 1120 20th Street, NW., 10th Floor, Washington, DC 20036. The ITAC meeting will solicit advice for the U.S. Government on the annual ITU Council Meeting, which will be held from November 12-21, 2008 at ITU headquarters in Geneva, Switzerland. The ITAC meeting will also discuss the results of the ITU World Telecommunication Standardization Assembly, which will be held October 21-30, 2008 in Johannesburg, South Africa.

This meeting is open to the public as seating capacity allows. The public will have an opportunity to provide comments at this meeting. People desiring further information on these meetings may contact the Secretariat at jillsonad@state.gov or 202 647-5872.

Dated: September 22, 2008.
Richard C. Beaird,
International Communications & Information Policy, Department of State.

[FR Doc. E8-22703 Filed 9-25-08; 8:45 am]

BILLING CODE 4710-07-P